DEPARTMENT OF DEFENSE

Defense Acquisition Regulations System

48 CFR Parts 245 and 225

[Docket DARS-2024-0001]

Defense Federal Acquisition Regulation Supplement; Technical Amendments

AGENCY: Defense Acquisition Regulations System, Department of Defense (DoD).

ACTION: Final rule; technical amendment.

SUMMARY: DoD is amending the Defense Federal Acquisition Regulation Supplement (DFARS) to make needed editorial changes.

DATES: Effective February 15, 2024.

FOR FURTHER INFORMATION CONTACT: Ms. Jennifer D. Johnson, Defense Acquisition Regulations System, telephone 703-717-8226.

SUPPLEMENTARY INFORMATION: This final rule amends the DFARS to make needed editorial changes to update an outdated office name and address at DFARS 245.102 and to correct typographical errors at DFARS 252.223-7009.

List of Subjects in 48 CFR Parts 245 and 252

Government procurement.

Jennifer D. Johnson,
Editor/Publisher, Defense Acquisition Regulations System.

Therefore, 48 CFR parts 245 and 252 are amended as follows:

1. The authority citation for 48 CFR parts 245 and 252 continues to read as follows:

Authority: 41 U.S.C. 1303 and 48 CFR chapter 1.

PART 245—GOVERNMENT PROPERTY

2. Amend section 245.102 by revising paragraph (4)(ii)(C)(2) to read as follows:

245.102 Policy.

* * * * *

(4) * * *

(ii) * * *

(C) * * *

(2) A copy of the executed determination and findings shall be provided to the Office of the Principal Director, Defense Pricing and Contracting (DPC) (Contracting eBusiness) via email at osd.pentagon.ousd-a-s.mbx.dpc-cb@mail.mil.

PART 252—SOLICITATION PROVISIONS AND CONTRACT CLAUSES

3. Amend section 252.223-7009 by revising the clause title and date to read as follows:

252.223-7009 Prohibition of Procurement of Fluorinated Aqueous Film-Forming Foam Fire-Fighting Agent for Use on Military Installations.

* * * * *

Prohibition of Procurement of Fluorinated Aqueous Film-Forming Foam Fire-Fighting Agent for Use on Military Installations (Feb 2024)

* * * * *

[FR Doc. 2024-01221 Filed 2-14-24; 8:45 am]

BILLING CODE 6001-FR-P